NUCLEAR REGULATORY COMMISSION

[Docket No. 72-11]

Sacramento Municipal Utility District, Rancho Seco Independent Spent Fuel Storage Installation; Notice of Docketing of Materials License SNM-2510; Amendment Application

By letter dated July 29, 2004, Sacramento Municipal Utility District (SMUD or licensee) submitted an application to the U.S. Nuclear Regulatory Commission (NRC or the Commission), in accordance with Title 10 of the Code of Federal Regulations (10 CFR) 72.56, requesting the amendment of the Rancho Seco Independent Spent Fuel Storage Installation (ISFSI) license. SMUD is requesting Commission approval to allow for the storage of Greater than Class C (GTCC) waste at the Rancho Seco ISFSI located on the site of the Rancho Seco Nuclear Generating Station located in Sacramento County, California.

This application was docketed under 10 CFR part 72; the ISFSI Docket No. is 72-11 and will remain the same for this action. Upon approval of the Commission, the Rancho Seco ISFSI license, SNM-2510, would be amended to allow this action.

The Commission may issue either a notice of hearing or a notice of proposed action and opportunity for hearing in accordance with 10 CFR 72.46(b)(1) regarding the proposed amendment or, if a determination is made that the proposed amendment does not present a genuine issue as to whether public health and safety will be significantly affected, take immediate action on the proposed amendment in accordance with 10 CFR 72.46(b)(2) and provide notice of the action taken and an opportunity for interested persons to request a hearing on whether the action should be rescinded or modified.

For further details with respect to this amendment, see the application dated July 29, 2004, which is publicly available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated at Rockville, Maryland, this 15th day of October 2004.
For the Nuclear Regulatory Commission.
Amy M. Snyder,
Project Manager, Spent Fuel Project Office, Office of Nuclear Material Safety and Safeguards.

[FR Doc. 04-24019 Filed 10-26-04; 8:45 am]

BILLING CODE 7590-01-P